ENVIRONMENTAL PROTECTION AGENCY

[FRL-9787-4]

Notice of Meeting of the Environmental Financial Advisory Board

AGENCY: Environmental Protection Agency (EPA).

ACTION: Notice of a public meeting/teleconference.

SUMMARY: The United States Environmental Protection Agency's (EPA) Environmental Financial Advisory Board (EFAB) will hold a meeting/teleconference of its Transit-Oriented Development for Sustainable Communities Project on March 27, 2013. EFAB is an EPA advisory committee chartered under the Federal Advisory Committee Act (FACA) to provide advice and recommendations to EPA on creative approaches to funding environmental programs, projects, and activities. The purpose of this meeting is to hear from informed speakers on investment issues in regards to environmentally sustainable development with a focus on transit-oriented development projects.

DATES: The meeting/teleconference will be held on Wednesday, March 27, 2013, from 2:00 p.m. to 5:00 p.m., Eastern Time.

ADDRESSES: Due to space limitations, the meeting is open and available to the public via teleconference. Members of the public who wish to participate in the meeting should register by contacting Timothy McProuty, U.S. EPA Center for Environmental Finance, at (202) 564-4996 or mcprouty.timothy@epa.gov. Registrants will receive a confirmation notice and the information necessary to access the meeting.

FOR FURTHER INFORMATION CONTACT: For information on access or services for individuals with disabilities, or to request accommodations for a person with a disability, please contact Sandra Williams, U.S. EPA Center for Environmental Finance, at (202) 564-4999 or williams.sandra@epa.gov, as far in advance of the meeting as possible, to allow as much time as possible to process your request.

Dated: February 25, 2013.
Joseph L. Dillon,
Director, Center for Environmental Finance.

[FR Doc. 2013-04928 Filed 3-1-13; 8:45 am]

BILLING CODE 6560-50-P